NATIONAL AERONAUTICS AND SPACE ADMINISTRATION

[Notice (18-096)]

NASA International Space Station Advisory Committee; Meeting

AGENCY: National Aeronautics and Space Administration.

ACTION: Notice of meeting.

SUMMARY: In accordance with the Federal Advisory Committee Act, as amended, the National Aeronautics and Space Administration announces a meeting of the NASA International Space Station (ISS) Advisory Committee. The purpose of the meeting is to review all aspects related to the safety and operational readiness of the ISS, and to assess the possibilities for using the ISS for future space exploration.

DATES: Friday, December 21, 2018, 2-3 p.m., Eastern Time.

ADDRESSES: NASA Headquarters, Glennan Conference Room (1Q39), 300 E Street SW, Washington, DC 20546. Note: 1Q39 is located on the first floor of NASA Headquarters.

FOR FURTHER INFORMATION CONTACT: Mr. Patrick Finley, Designated Federal Officer, Office of International and Interagency Relations, (202) 358-5684, NASA Headquarters, Washington, DC 20546-0001.

SUPPLEMENTARY INFORMATION: This meeting will be open to the public up to the seating capacity of the room. This meeting is also accessible via teleconference. To participate telephonically, please contact Mr. Finley by telephone at (202) 358-5684 before 4:30 p.m., Eastern Time, on December 18, 2018. You will need to provide your name, affiliation, and phone number. Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Mr. Finley via email at patrick.t.finley@nasa.gov or by telephone at (202) 358-5684. U.S. citizens and permanent residents (green card holders) are requested to submit their name and affiliation no less than 3 working days prior to the meeting to Mr. Finley. It is imperative that the meeting be held on this date to accommodate the scheduling priorities of the key participants.

Patricia Rausch,
Advisory Committee Management Officer, National Aeronautics and Space Administration.

[FR Doc. 2018-26044 Filed 11-29-18; 8:45 am]

BILLING CODE 7510-13-P